DEPARTMENT OF ENERGY

Federal Energy Regulatory Commission

[Project No. 12611-009]

Verdant Power, LLC; Notice of Request To Waive Requirement To File Draft License Application

a. Type of Filing: Request to Waive Pre-Filing Requirements.

b. Project No.: 12611-009.

c. Date Filed: August 30, 2019.

d. Applicant: Verdant Power, LLC.

e. Name of Project: Roosevelt Island Tidal Energy Project.

f. Location: On the East River in New York County, New York.

g. Filed Pursuant to: Federal Power Act, 16 U.S.C. 791a-825r.

h. Applicant Contact: Mr. Ronald F. Smith, President and Chief Operating Officer, Verdant Power, LLC, P.O. Box 282, Roosevelt Island, New York, New York 10044. Phone: (703) 328-6841.

i. FERC Contact: Andy Bernick, (202) 502-8660, andrew.bernick@ferc.gov.

j. Verdant requests a waiver of the Commission's pre-filing regulations under section 16.8(c) with respect to the requirement to submit a draft license application for the Roosevelt Island Tidal Energy Project. Verdant states that the project has a long history of consultation and that it proposes no substantive changes to the currently licensed pilot project. Further, Verdant indicates that it held two joint agency meetings (on January 8, 2019 and May 16, 2019), the second of which was held for federal agencies that were unable to attend the January meeting due to the funding lapse at certain federal agencies between December 22, 2018, and January 25, 2019. Verdant explains that the second joint agency meeting and the additional time needed to respond to study requests has reduced the amount of time available for submitting and effectively reviewing responses to a draft license application, prior to the filing of the final license application by December 31, 2019. Therefore, Commission staff is soliciting comments on Verdant's request to waive the requirement to file a draft license application for the Roosevelt Island Tidal Energy Project, pursuant to sections 16.8(c)(4) and 16.8(c)(6) of the Commission's regulations.

k. The deadline for filing comments is 15 days from the issuance date of this notice.

The Commission strongly encourages electronic filing. Please file motions to intervene and protests, comments, and final terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12611-009.

l. A copy of the request is available for review at the Commission in the Public Reference Room or may be viewed on the Commission's website at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via email of new filings and issuances related to this or other pending projects. For assistance, contact FERC Online Support.

Dated: September 10, 2019.
Kimberly D. Bose,
Secretary.

[FR Doc. 2019-19968 Filed 9-13-19; 8:45 am]

BILLING CODE 6717-01-P